FEDERAL COMMUNICATIONS COMMISSION

47 CFR Part 73

[DA 05-3101; MB Docket No. 04-20; RM-10842, RM-11128, RM-11129, RM-11130]

Radio Broadcasting Services; Cambridge, Newark, St. Michaels, and Stockton, MD and Chincoteague, VA

AGENCY: Federal Communications Commission.

ACTION: Final rule.

SUMMARY: In response to a Notice of Proposed Rule Making, 69 FR 9790 (March 2, 2004) this Report and Order denies a request by CWA Broadcasting, Inc., the licensee of Station WINX-FM, St. Michaels, Maryland, to upgrade its present Channel 232A to Channel 232B1, reallot Channel 232B1 to Cambridge, Maryland, and modify Station WINX-FM's license accordingly. The Report and Order allots Channel 235A to Newark, Maryland, thus providing that community with a first local aural transmission service. The reference coordinates for Channel 235A at Newark, Maryland are 38-12-20 NL and 75-17-15 WL, with a site restriction of 5.0 kilometers (3.1 miles) south of Newark. The Report and Order denies the counterproposal of Route 12 Community Broadcasters to allot Channel 232A to Stockton, Maryland, and allots Channel 233A to Chincoteague, Virginia, which would provide Chincoteague with a second local aural transmission service. The reference coordinates for Channel 233A at Chincoteague are 37-56-00 NL and 75-22-36 WL.

DATES: Effective January 17, 2006.

FOR FURTHER INFORMATION CONTACT: R. Barthen Gorman, Media Bureau, (202) 418-2180.

SUPPLEMENTARY INFORMATION: This is a synopsis of the Commission's Report and Order, MB Docket No. 04-20, adopted November 30, 2005, and released December 2, 2005. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334, 336.

§ 73.202 [Amended]

2. Section 73.202(b), the Table of FM Allotments under Maryland, is amended by adding Newark, Channel 235A.

3. Section 73.202(b), the Table of FM Allotments under Virginia, is amended by adding Channel 233A at Chincoteague.

Federal Communications Commission.
John A. Karousos,
Assistant Chief, Audio Division, Media Bureau.

[FR Doc. 05-24216 Filed 12-20-05; 8:45 am]

BILLING CODE 6712-01-P